DEPARTMENT OF THE TREASURY

Submission for OMB Review; Comment Request

November 14, 2011.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11010, 1750 Pennsylvania Avenue NW., Washington, DC 20220.

DATES: Written comments should be received on or before December 19, 2011 to be assured of consideration.

United States Mint

OMB Number: 1525-0013.

Type of Review: Revision of a currently approved collection.

Title: Application for Intellectual Property Use.

Form: Mint Form 3045.

Abstract: The application form allows individuals and business entities to apply to use United States Mint intellectual property and trademark and copyright materials.

Affected Public: Private Sector: Businesses or other for-profits.

Estimated Total Annual Burden Hours: 84.

Bureau Clearance Officer: Yvonne Pollard, United States Mint, 799 9th Street NW., 4th Floor, Washington, DC 20220; (202) 354-6784.

OMB Reviewer: Shagufta Ahmed, Office of Management and Budget, New Executive Office Building, Room 10235, Washington, DC 20503; (202) 395-7873.

Dawn D. Wolfgang,
Treasury PRA Clearance Officer.

[FR Doc. 2011-29790 Filed 11-17-11; 8:45 am]

BILLING CODE 4810-37-P